ENVIRONMENTAL PROTECTION AGENCY

40 CFR Parts 52 and 81

[EPA-R09-OAR-2023-0539; FRL-11747-02-R9]

Air Plan Approval: Arizona: Infrastructure Requirements for the 2012 Fine Particulate Matter National Ambient Air Quality Standard

AGENCY: Environmental Protection Agency (EPA).

ACTION: Final rule.

SUMMARY: The Environmental Protection Agency (EPA) is taking final action to approve portions of the state implementation plan (SIP) revisions submitted by the State of Arizona pursuant to the Clean Air Act (CAA) for the implementation, maintenance, and enforcement of the 2012 fine particulate matter (PM2.5) national ambient air quality standards (NAAQS or “standards”) as proposed, except for certain requirements related to prevention of significant deterioration (PSD), which EPA will defer action on until a later date. In addition, the EPA is approving regulatory provisions into the Arizona SIP and is amending regulatory text to include La Paz County as part of Mohave-Yuma Intrastate air quality control region (AQCR).

DATES: This rule is effective January 20, 2026.

ADDRESSES: The EPA has established a docket for this action under Docket ID No. EPA-R09-OAR-2023-0539. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Michael Dorantes, Geographic Strategies and Modeling Section (AIR-2-2), EPA Region IX, 75 Hawthorne Street, San Francisco, CA, telephone number: (415) 972-3934, email address: dorantes.michael@epa.gov.

SUPPLEMENTARY INFORMATION: Throughout this document, “we,” “us,” and “our” refer to the EPA.

Table of Contents

I. Background

A. Statutory Requirements

B. State Submittals

C. Summary of EPA's Proposal and Incorporation of Rules Into Arizona's State Implementation Plan

D. Revising Air Quality Control Regions and Evalutating Emergency Episode Planning Requirements for PM2.5 in Arizona

II. Public Comments and EPA Responses

III. Final Action

A. Approvals

B. Deferred Action

C. Incorporation of Rules Into Arizona's State Implementation Plan

D. Revising Air Quality Control Regions and Evaluating Emergency Episode Planning Requirements for PM2.5 in Arizona

IV. Incorporation by Reference

V. Statutory and Executive Order Reviews

I. Background

A. Statutory Requirements

Section 110(a)(1) of the CAA requires each state to submit to the EPA, within three years after the promulgation of a primary or secondary NAAQS or any revision thereof, a SIP revision that provides for the implementation, maintenance, and enforcement of such NAAQS.

Section 110(a)(2) of the CAA contains the infrastructure SIP requirements that generally relate to the information, authorities, compliance assurances, procedural requirements, and control measures that constitute the “infrastructure” of a state's air quality management program. These infrastructure SIP requirements (or “elements”) required by section 110(a)(2) are as follows:

• Section 110(a)(2)(A): Emission limits and other control measures.

• Section 110(a)(2)(B): Ambient air quality monitoring/data system.

• Section 110(a)(2)(C): Program for enforcement of control measures and regulation of new and modified stationary sources.

• Section 110(a)(2)(D)(i): Interstate pollution transport.

• Section 110(a)(2)(D)(ii): Interstate and international pollution abatement.

• Section 110(a)(2)(E): Adequate resources and authority, conflict of interest, and oversight of local and regional government agencies.

• Section 110(a)(2)(F): Stationary source monitoring and reporting.

• Section 110(a)(2)(G): Emergency episodes.

• Section 110(a)(2)(H): SIP revisions.

• Section 110(a)(2)(J): Consultation with government officials, public notification, PSD, and visibility protection.

• Section 110(a)(2)(K): Air quality modeling and submittal of modeling data.

• Section 110(a)(2)(L): Permitting fees.

• Section 110(a)(2)(M): Consultation/participation by affected local entities.

There are certain infrastructure SIP requirements under section 110(a)(2) that are not addressed in this final action. First, two elements identified in section 110(a)(2) are not governed by the three-year submittal deadline of section 110(a)(1). These two elements are: (i) section 110(a)(2)(C), to the extent that it refers to permit programs required under part D (nonattainment new source review (NSR)), and (ii) section 110(a)(2)(I), pertaining to the nonattainment planning requirements of part D. As a result, this action does not address the nonattainment NSR requirements of section 110(a)(2)(C) or the entirety of section 110(a)(2)(I). Additionally, this action does not address the requirements of section 110(a)(2)(D)(i)(I) pertaining to contributions to nonattainment or interference with maintenance in other States, referred to as “prongs 1 and 2” and 110(a)(2)(D)(i)(II) pertaining to interference with visibility protection in other States, referred to as “prong 4.” The EPA has proposed action on Arizona's SIP revision with respect to prongs 1 and 2 in a separate rulemaking,¹ and has finalized action on prong 4 in a separate rulemaking.² Finally, there are several requirements, for which we originally proposed partial approval and partial disapproval,³ that we will now be deferring action on. These include the requirements of 110(a)(2)(C) as they relate to major source preconstruction PSD permitting, but also extend to the portions of 110(a)(2)(D)(i), 110(a)(2)(D)(ii), and 110(a)(2)(J) that reference PSD requirements and rely on our analysis of PSD permitting in Element C. We will be addressing the PSD requirements of 110(a)(2)(C), 110(a)(2)(D)(i), 110(a)(2)(D)(ii), and 110(a)(2)(J) in a separate, future rulemaking.

¹ 90 FR 48502 (October 23, 2025).

² The EPA finalized its partial approval and partial disapproval the Arizona Regional Haze Plan for the Second Implementation Period as well as its disapproval of prong 4 requirements on May 31, 2024 (89 FR 102744). On July 15, 2025, EPA granted petitions for reconsideration of our final action on the Arizona Regional Haze Plan.

³ 89 FR 50245, 50249-50250 (June 13, 2024).

B. State Submittals

The Arizona Department of Environmental Quality (ADEQ) submitted two SIP revisions to address the infrastructure SIP requirements in CAA sections 110(a)(1) and 110(a)(2) for the 2012 PM2.5 NAAQS. On December 11, 2015, ADEQ submitted the “Arizona State Implementation Plan Revision for the 2012 Fine Particulate Matter (PM2.5) National Ambient Air Quality Standard” (“2015 PM2.5 I-SIP submittal”).⁴ On February 10, 2022, ADEQ submitted the “State Implementation Plan Revision: Clean Air Act Section 110(a)(2) for the 2012 Fine Particulate & 2015 Ozone NAAQS” (“2022 I-SIP supplement”).⁵ These submittals collectively address Arizona's obligation to satisfy infrastructure SIP requirements for the 2012 PM2.5 NAAQS. We refer to them herein as “Arizona's 2012 PM2.5 I-SIP submittals.”

⁴ Letter dated December 11, 2015, from Eric Massey, Director, Air Quality Division, ADEQ, to Jared Blumenfeld, Regional Administrator, EPA Region IX, Subject: “Arizona Infrastructure State Implementation Plan for the 2012 PM2.5 National Ambient Air Quality Standards.”

⁵ Letter dated February 10, 2022, from Daniel Czecholinski, Director, Air Quality Division, ADEQ, to Martha Guzman, Regional Administrator, EPA Region IX, Subject: “Submittal of the Arizona State Implementation Plan Revision under Clean Air Act Sections 110(a)(2) for the 2012 Fine Particulate and the 2015 Ozone NAAQS.”

We are taking final action on these submittals with respect to the 2012 PM2.5 NAAQS except for those portions of the 2012 PM2.5 I-SIP submittals addressing prongs 1, 2, and 4 of the interstate transport requirements under CAA section 110(a)(2)(D)(i). Additionally, we are deferring action on the requirements under CAA section 110(a)(2)(C), 110(a)(2)(D)(i), 110(a)(2)(D)(ii), and 110(a)(2)(J) with respect to the major source PSD requirements referenced within those elements. Our deferral on these sub-elements extends to all Arizona permitting agencies. We are also not taking action on the portions of the 2022 I-SIP supplement addressing the 2015 ozone NAAQS in this rulemaking.

C. Summary of EPA's Proposal and Incorporation of Rules Into Arizona's State Implementation Plan

We evaluated Arizona's 2012 PM2.5 I-SIP submittals and the existing provisions of the Arizona SIP for compliance with the infrastructure SIP requirements of CAA section 110(a)(2) and the applicable regulations in 40 CFR part 51 (“Requirements for Preparation, Adoption, and Submittal of State Implementation Plans”). Based on the evaluation presented in the June 13, 2024 proposed rulemaking and in the accompanying technical support document (TSD), we proposed to partially approve and partially disapprove Arizona's 2012 PM2.5 I-SIP submittals with respect to the 2012 PM2.5 NAAQS.⁶ Additionally, we proposed to approve two rules and one plan submitted with the 2022 I-SIP supplement: the revised Maricopa County Air Pollution control Regulation VI—Emergency Episodes “Rule 600 Emergency Episodes,” ⁷ the revised Arizona Administrative Code (AAC) R18-2-220 “Air Pollution Emergency Episodes,” and the “Procedures for the Prevention of Emergency Episodes.” ⁸ Also submitted with the 2022 I-SIP supplement are the Arizona Revised Statute (ARS) 49-432(C), dealing with public availability of emissions records, and Pima County Code (PCC) 17.24.010 “Confidentiality of trade secrets, sales data, and propriety information.” ⁹ The EPA took final action to approve the revised ARS 49-432 and PCC 17.24.010 for incorporation into the Arizona SIP in a separate rulemaking.¹⁰ Based upon the analysis detailed in our proposed rulemaking and TSD, we find that Maricopa County Regulation VI—Emergency Episodes, Rule 600 “Emergency Episodes,” AAC R18-2-220 “Air Pollution Emergency Episodes,” and the “Procedures for the Prevention of Emergency Episodes,” meet the requirements of CAA section 110(a)(2)(G) and other CAA requirements. Therefore, the EPA is approving the revised versions of Maricopa County Regulation VI—Emergency Episodes, Rule 600 “Emergency Episodes,” AAC R18-2-220 “Air Pollution Emergency Episodes,” and the “Procedures for the Prevention of Emergency Episodes” into the Arizona SIP.

⁶ 89 FR 50245 (June 13, 2024).

⁷ Prior to ADEQ's submittal of Maricopa County's Regulation VI—Emergency Episodes, Rule 600 “Emergency Episodes” with the 2022 I-SIP supplement on February 10, 2022, ADEQ submitted the same rule as a standalone submission on December 17, 2021. We have determined the content of these two submittals to be identical to one another. Therefore, we are choosing to fulfill our statutory obligation to act on the rule by approving the submission included as part of the 2022 I-SIP supplement. Furthermore, ADEQ, prompted by a request from Maricopa County Air Quality Department, has withdrawn the December 17, 2021 rule submittal, included in the docket for this rulemaking.

⁸ ADEQ's “Procedures for the Prevention of Emergency Episodes” is located in Appendix D to the 2022 I-SIP supplement.

⁹ In our notice of proposed rulemaking, we made a typographical error and referred to the Pima County Code 17.24.010 as the Pinal County Code 17.24.010.

¹⁰ 89 FR 71830 (September 4, 2024).

D. Revising Air Quality Control Regions and Evaluating Emergency Episode Planning Requirements for PM2.5 in Arizona

40 CFR part 51, subpart H (“Prevention of Air Pollution Emergency Episodes”) contains EPA's implementing regulations for CAA section 110(a)(2)(G) (§§ 51.150 through 51.153). 40 CFR 51.150 of subpart H provides criteria for the classification of areas for emergency episode planning purposes based on measured concentrations of ambient air pollutants, specifically sulfur oxides, particulate matter, carbon monoxide, nitrogen dioxide, and ozone. The priority thresholds for classification of AQCR are listed at 40 CFR 51.150, and the specific classifications of AQCR in Arizona are listed at 40 CFR 52.121. Consistent with the provisions of 40 CFR 51.153, reclassification of an AQCR must rely on the most recent three years of air quality data. Under 40 CFR 51.151 and 51.152, regions classified under the more stringent classifications of Priority I, IA, or II are required to have SIP-approved emergency episode contingency plans, while those classified Priority III are not required to have plans. We also interpret 40 CFR 51.153 as establishing the means for states to review air quality data and request a higher or lower classification for any given region and as providing the regulatory basis for the EPA to reclassify such regions, as appropriate, under the authorities of CAA sections 110(a)(2)(G) and 301(a)(1). For reasons detailed in our notice of proposed rulemaking and the TSD, we determined that counties in the Maricopa Intrastate AQCR are required to have emergency episode plans for PM2.5. ADEQ and Maricopa County both regulate air quality in the Maricopa Intrastate AQCR and as covered in our notice of proposed rulemaking, both counties have submitted emergency episode plans. As detailed in our proposal and associated TSD, we find that these plans satisfy the requirements of 110(a)(2)(G) of the CAA and 40 CFR part 51, subpart H.

We also proposed a revision to 40 CFR 52.121 to add La Paz County to the list of constituent counties for the Mohave-Yuma Intrastate AQCR, and to 40 CFR 81.268, we proposed to add La Paz County to the delimited area of the Mohave-Yuma Intrastate AQCR.¹¹ This action finalizes those amendments to 40 CFR 51.121 and 40 CFR 81.268 as proposed.

¹¹ The EPA has discussed the basis for these proposed amendments to 40 CFR 52.121 and 40 CFR 81.268 with ADEQ and the State's concurrence and formal request for these revisions is included as a letter in the docket for this rulemaking with our notice of final action. See letter from Daniel Czecholinkski, Director, ADEQ Air Quality Division, to Matthew Lakin, Director, EPA Region IX Air and Radiation Division, dated Augst 27, 2024.

II. Public Comments and EPA Responses

The EPA's proposed action provided a 30-day public comment period that ended on July 15, 2024. During this period, the EPA received four comments. Three of these comments were from the Center for Biological Diversity (CBD) and the remaining comment was from another organization. Copies of each comment have been added to the docket for this action and are accessible at https://www.regulations.gov. The three comments from CBD concerned ADEQ's PSD permitting program. Because we are deferring action on the PSD-related elements of Arizona's 2012 PM2.5 I-SIP submittal, we are not responding to those comments at this time. Below we summarize the remaining comment and provide our response.

One comment from a different organization argued that the EPA's review of infrastructure SIP submittals for the 2012 PM2.5 NAAQS should include considerations for the emissions caused by the smoking of marijuana and cannabis, and the emissions associated with their production. Additionally, the comment requested that the EPA also add marijuana and cannabis to the “toxic substance list.” ¹²

¹² The full comment is included in the docket for this rulemaking.

After reviewing the comment, the EPA has determined that the comment fails to raise issues germane to the proposed action of the revisions submitted by the State of Arizona pursuant to the CAA requirements for the implementation, maintenance, and enforcement of the 2012 p.m.2.5 NAAQS, which is based on the statutory requirements of CAA sections 110(a)(1) and 110(a)(2). Therefore, we have determined that this comment does not necessitate a response to the issues raised, and the EPA will not provide a response to the comment in this document.

III. Final Action

A. Approvals

As detailed in section I. of this rulemaking, we are taking final action to approve certain portions of Arizona's I-SIP submittals for the 2012 PM2.5 NAAQS. Specifically, we are approving the submittal for the requirements of the following CAA sections:

• 110(a)(2)(A)—Emission limits and other control measures.

• 110(a)(2)(B)—Ambient air quality monitoring/data system.

• 110(a)(2)(C)—Program for enforcement of control measures and regulation of new and modified minor stationary sources.

• 110(a)(2)(D)(ii)—International pollution abatement, CAA section 115.

• 110(a)(2)(E)—Adequate resources and authority, conflict of interest, and oversight of local governments and regional agencies.

• 110(a)(2)(F)—Stationary source monitoring and reporting.

• 110(a)(2)(G)—Emergency episodes.

• 110(a)(2)(H)—Consultation with government officials.

• 110(a)(2)(J)—Consultation with government officials, public notification, and visibility protection.

• 110(a)(2)(K)—Air quality modeling and submission of modeling data.

• 110(a)(2)(L)—Permitting fees.

• 110(a)(2)(M)—Consultation/participation by affected local entities.

B. Deferred Action

The EPA previously proposed to partially approve and partially disapproval the following PSD-related CAA requirements under 110(a)(2). At this time, we are not finalizing our proposed action on these elements and will instead address the requirements in a separate rulemaking:

• 110(a)(2)(C)—Program for regulation of new and modified major source stationary sources.

• 110(a)(2)(D)(i)(II)—Interference with PSD (prong 3).

• 110(a)(2)(D)(ii)—Interstate pollution abatement, CAA section 126.

• 110(a)(2)(J)—PSD.

We note that the EPA proposed to approve prongs 1 and 2 of 110(a)(2)(D)(i)(I) in a separate rulemaking.¹³ We took final action to disapprove prong 4 of 110(a)(2)(D)(i)(II) as part of a larger action addressing Arizona's Regional Haze requirements for the second implementation period.¹⁴

¹³ 90 FR 48502 (October 23, 2025).

¹⁴ 89 FR 102744 (December 18, 2024). As previously noted, on July 15, 2025, EPA granted petitions for reconsideration of our final action on the Arizona Regional Haze plan.

C. Incorporation of Rules Into Arizona's State Implementation Plan

For the reasons described in our proposed rulemaking and TSD, we are finalizing approval of two rules and one plan included with the 2022 I-SIP supplement into the Arizona SIP: AAC R18-2-220 “Air Pollution Emergency Episodes,” the accompanying plan “Procedures for the Prevention of Emergency Episodes,” and the Maricopa County Air Pollution Control Regulation VI, “Emergency Episodes: Rule 600 Emergency Episodes”. Based on our analysis, we find that these rules meet the requirements of CAA sections 110(a)(2), 110(l), and 193.

D. Revising Air Quality Control Regions and Evaluating Emergency Episode Planning Requirements for PM2.5 in Arizona

For the reasons described in our proposed rulemaking, and in response to the State's request, we are taking final action to revise 40 CFR 52.121 to add La Paz County to the list of constituent counties for the Mohave-Yuma Intrastate AQCR, and to 40 CFR 81.268, to add La Paz County to the delimited area of the Mohave-Yuma Intrastate AQCR.¹⁵ We also evaluated the three most recent years of complete, quality-assured, and certified ambient air monitoring data to yield maximum 24-hour PM2.5 concentrations for each county; ¹⁶ the maximum recorded 24-hour PM2.5 concentrations along with our finalized classifications for each AQCR are compiled in table 16 of the TSD accompanying this rulemaking. As discussed in our proposed rulemaking document, ADEQ and Maricopa County have both submitted emergency episode plans, and we are taking final action to find that these plans satisfy the requirements of 40 CFR 51.152(a)-(b) and 110(a)(2)(G) of the CAA.

¹⁵ 89 FR 50245 (June 13, 2024).

¹⁶ EPA AQS Daily Summary Report, AMP435, for 2020-2022 24-Hour PM2.5 Values for Arizona. Report accessed July 31, 2023, included in the docket for this rulemaking.

IV. Incorporation by Reference

In this document, the EPA is finalizing regulatory text that includes incorporation by reference. The EPA is finalizing the incorporation of AAC R18-2-220 “Air Pollution Emergency Episodes,” the “Procedures for the Prevention of Emergency Episodes,” and the Maricopa County Air Pollution Control Regulation VI, “Emergency Episodes: Rule 600 Emergency Episodes,” into the Arizona SIP, which are incorporated by reference in accordance with the requirements of 1 CFR part 51. The EPA has made, and will continue to make, these documents available through https://www.regulations.gov and at the EPA Region 9 Office (please contact the person identified in the FOR FURTHER INFORMATION CONTACT section of this preamble for more information).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act (CRA), and the EPA will submit a rule report to each House of the Congress and to the Comptroller General of the United States. This action is not a “major rule” as defined by 5 U.S.C. 804(2).

Under section 307(b)(1) of the CAA, petitions for judicial review of this action must be filed in the United States Court of Appeals for the appropriate circuit by February 17, 2026. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Intergovernmental relations, Nitrogen dioxide, Particulate matter, Reporting and recordkeeping requirements, Volatile organic compounds.

40 CFR Part 81

Environmental protection, Air pollution control.

Authority: 42 U.S.C. 7401 et seq.

Dated: December 8, 2025.
Michael Martucci,
Acting Regional Administrator, Region IX.

For the reasons stated in the preamble, EPA amends 40 CFR parts 52 and 81 as follows:

PART 52—APPROVAL AND PROMULGATION OF IMPLEMENTATION PLANS

1. The authority citation for part 52 continues to read as follows:

Authority: 42 U.S.C. 7401 et seq.

Subpart D—Arizona

2. In § 52.120:

a. The table in paragraph (c) entitled “Table 2—EPA-Approved Arizona Regulations” is amended by:

i. Under the heading “Article 2 (Ambient Air Quality Standards; Area Designations; Classifications)”, revising the entry “R18-2-220”.

ii. Revising the entry for “[Incorporated by Reference through R18-2-220]”.

b. The table in paragraph (c) entitled “Table 4 to Paragraph (c)—EPA-Approved Maricopa County Air Pollution Control Regulations” is amended by:

i. Under the heading “Regulation VI—Emergency Episodes”, revising the entry “Rule 600”.

c. The table in paragraph (e) entitled “Table 1—EPA-Approved Non-Regulatory and Quasi-Regulatory Measures [Excluding Certain Resolutions and Statutes, Which are Listed in Tables 2 and 3, Respectively]” is amended by:

i. Under the heading “Clean Air Act Section 110(a)(2) State Implementation Plan Elements (Excluding Part D Elements and Plans)”, adding the entry ” Arizona State Implementation Plan Revision for the 2012 Fine Particulate Matter (PM2.5) National Ambient Air Quality Standard (dated December 11, 2015)” before the entry “Arizona State Implementation Plan Revision under Clean Air Act Section 110(a)(1) and 110(a)(2) for the 2015 Ozone National Ambient Air Quality Standards (dated September 24, 2018)”.

The revisions and addition read as follows:

§ 52.120 Identification of plan.

* * * * *

(c) * * *

Table 2—EPA-Approved Arizona Regulations
State citation | Title/subject | State effective date | EPA approval date | Additional explanation
* * * * * * *
Article 2 (Ambient Air Quality Standards; Area Designations; Classifications)
* * * * * * *
R18-2-220 | Air Pollution Emergency Episodes | May 18, 2019 | 12/18/2025, 90 FR [insert Federal Register page where the document begins] | Submitted on February 10, 2022.
* * * * * * *
Materials Incorporated By Reference in Title 18 (Environmental Quality)
Chapter 2 (Department of Environmental Quality Air Pollution Control)
* * * * * * *
[Incorporated by reference through R18-2-220] | Procedures for Prevention of Emergency Episodes | May 18, 2019 | 12/18/2025, 90 FR [insert Federal Register page where the document begins] | Submitted on February 10, 2022.
* * * * * * *

* * * * *

Table 4 to Paragraph (c)—EPA-Approved Maricopa County Air Pollution Control Regulations
County citation | Title/subject | State effective date | EPA approval date | Explanation
* * * * * * *
Regulation VI—Emergency Episodes
Rule 600 | Emergency Episodes | December 8, 2021 | 12/18/2025, 90 FR [insert Federal Register page where the document begins] | Submitted on February 10, 2022.
* * * * * * *

* * * * *

(e) * * *

Table 1—EPA-Approved Non-Regulatory and Quasi-Regulatory Measures
[Excluding certain resolutions and statutes, which are listed in Tables 2 and 3, respectively] ¹
Name of SIP provision | Applicable geographic or nonattainment area or title/subject | State submittal date | EPA approval date | Explanation
* * * * * * *
Clean Air Act Section 110(a)(2) State Implementation Plan Elements (Excluding Part D Elements and Plans)
* * * * * * *
Arizona State Implementation Plan Revision for the 2012 Fine Particulate Matter (PM2.5) National Ambient Air Quality Standard (dated December 11, 2015) | State-wide | December 11, 2015 | 12/18/2025, 90 FR [insert Federal Register page where the document begins] | Adopted by the Arizona Department of Environmental Quality on December 11, 2015. EPA fully approved all elements of the submittal, except we are deferring action on the PSD-related requirements of CAA sections 110(a)(2)(C), 110(a)(2)(D), and 110(a)(2)(J).
* * * * * * *
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.

* * * * *

3. In § 52.121, the table is amended by revising the entry “Mohave-Yuma Intrastate (Mohave, Yuma)” to read as follows:

§ 52.121 Classification of regions.

* * * * *

AQCR (constituent counties) | Classifications: PM | Classifications: SOX | Classifications: NO2 | Classifications: CO | Classifications: O3
* * * * * * *
Mohave-Yuma Intrastate (La Paz, Mohave, Yuma) | I | III | III | III | III
* * * * * * *

4. In § 52.123, add paragraph (s) to read as follows:

§ 52.123 Approval status.

* * * * *

(s) 2012 PM2.5 NAAQS: The SIPs submitted on December 11, 2015, and February 10, 2022, are fully approved except for the PSD-related requirements of CAA sections 110(a)(2)(C), (D)(i)(II), (D)(ii), and (J), which we are deferring action on, for all portions of the Arizona SIP.

* * * * *

PART 81—DESIGNATION OF AREAS FOR AIR QUALITY PLANNING PURPOSES

5. The authority citation for part 81 continues to read as follows:

Authority: 42 U.S.C. 7401, et seq.

Subpart B—Designation of Air Quality Control Regions

6. Revise § 81.268 to read as follows:

§ 81.268 Mohave-Yuma Intrastate Air Quality Control Region.

The Mohave-Yuma Intrastate Air Quality Control Region (Arizona) has been revised to consist of the territorial area encompassed by the boundaries of the following jurisdictions or described area (including the territorial area of all municipalities (as defined in section 302(f) of the Clean Air Act, 42 U.S.C. 7602(f)) geographically located within the outermost boundaries of the area so delimited): In the State of Arizona: La Paz County, Mohave County, and Yuma County

[FR Doc. 2025-23259 Filed 12-17-25; 8:45 am]

BILLING CODE 6560-50-P